NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 6, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-021

1. Applicant Henry Wulff, Altas Ocean Voyages, 1 E Broward Blvd., Suite 800, Fort Lauderdale, FL, 33301.

Activity for Which Permit is Requested: Waste Management. The applicant seeks an Antarctic Conservation Act permit for waste management activities associated with the use of remotely piloted aircrafts (RPAs) in Antarctica. RPAs will be flown by experienced, pre-approved pilots for educational, commercial, or marketing purposes only. RPAs will only be flown in fair-weather conditions with wind speeds less than 7m/s. Aircrafts will not be flown over any concentrations of wildlife, or any Antarctic Specially Protected or Specially Managed Areas or any Historic Sites and Monuments without authorization. Operators and observers will maintain visual line of sight with the aircraft during all flight operations, and measures will be in place to prevent loss of aircraft during operations. The applicant seeks a waste management permit to cover any accidental release that may result from the use of RPAs.

Location: Antarctic Peninsula Region.

Dates of Permitted Activities: December 1, 2021-March 31, 2022.

Permit Application: 2022-022

2. Applicant: Deirdre Dirkman, Vantage Travel, 90 Canal St., Boston, MA 02114.

Activity for Which Permit is Requested: Waste Management. The applicant seeks an Antarctic Conservation Act permit for waste management activities associated with the use of remotely piloted aircrafts (RPAs) in Antarctica. Flights of RPAs will be limited to commercial, educational, and marketing use only. Aircraft are only to be flown by experienced, pre-approved pilots in fair weather conditions. RPAs will not be flown over any concentrations of wildlife, Antarctic Specially Protected or Specially Managed Areas or any Antarctic Historic Sites and Monuments without appropriate authorization. Operators will always maintain visual line of site with aircraft during flight to monitor activities and prevent loss of aircraft. Observers will assist in monitoring and observe for any wildlife or potential hazards. The applicant seeks a permit to cover any accidental release that may result from RPA use.

Location: Antarctic Peninsula Region.

Dates of Permitted Activities: December 1, 2021-March 31, 2022.

Permit Application: 2022-023

3. Applicant: Tom Russell, Swan Hellenic Antarctic, 1800 SE 10th Ave., #240, Fort Lauderdale, FL 33316.

Activity for Which Permit is Requested: Waste Management. The applicant seeks an Antarctic Conservation Permit for waste management activities associated with use of remotely piloted aircrafts (RPAs) in Antarctica. Aircrafts will be launched from land or by boat and will be used for commercial, marketing, or educational purposes only. RPAs will not be flown over any concentrations of wildlife, Antarctic Specially Protected or Specially Managed Areas or Historic Sites and Monuments without appropriate authorization. Aircraft are only to be flown by experienced, pre-approved pilots in fair weather conditions and in the presence of an observer, who will observe the flight area for potential hazards. Measures are in place to prevent loss of the aircraft. The applicant seeks a waste management permit to cover any accidental releases that may result from RPA use.

Location: Antarctic Peninsula Region.

Dates of Permitted Activities: December 1, 2021-March 31, 2021.

Permit Application: 2022-024

4. Applicant: Michael Hjorth, Albatros Expeditions, 4770 Biscayne Blvd., PHR, Miami, FL 33137.

Activity for Which Permit is Requested: Waste Management. The applicant seeks an Antarctic Conservation Act permit for waste management activities associated with the use of Remotely piloted aircrafts (RPAs) and all-terrain vehicles (ATVs) in Antarctica. RPAs will be flown by experienced, pre-approved pilots for educational, commercial, or marketing purposes. Aircrafts will not be flown over any concentrations of wildlife, or any Antarctic Specially Protected or Specially Managed Areas or Historic Sites and Monuments without appropriate authorization. Operators will maintain visual line of sight with the aircraft during all flight operations, and measures will be in place to prevent loss of aircraft during operations. Observers will be present to observe for any wildlife or other potential hazards. ATVs will be used to support onshore activities and will be refueled once daily. Refueling of ATVs will be done by experienced staff and precautions will be taken to prevent any accidental release of fuel. Supplies will be on hand to assist in cleanup of any fuel spilled during operations. The applicant seeks a waste management permit to cover any accidental release that may result from the use of RPAs or ATVs.

Location: Antarctic Peninsula Region.

Dates of Permitted Activities: December 1, 2021-March 31, 2022.

Erika N. Davis,
Program Specialist, Office of Polar Programs.

[FR Doc. 2021-24278 Filed 11-4-21; 8:45 am]

BILLING CODE 7555-01-P